FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011679-015.

Title: ASA/SERC Agreement.

Parties: American President Lines, Ltd./APL Co. Pte Ltd.; ANL Singapore Pte Ltd.; COSCO Shipping Lines Company, Ltd.; Evergreen Line Joint Service; Hyundai Merchant Marine Co., Ltd.; Kawasaki Kisen Kaisha, Ltd.; Mitsui O.S.K. Lines, Ltd.; Nippon Yusen Kaisha; Orient Overseas Container Line Ltd.; Wan Hai Lines Ltd.; and Yang Ming Marine Transport Corp.

Filing Party: Wayne Rohde; Cozen O'Connor; 1200 19th Street NW.; Washington, DC 20036.

Synopsis: The Amendment revises the Agreement to reflect a recently implemented name change of the Agreement from “ASF/SERC” to “ASA/SERC.” The Asian Shipowners Forum changed its name to the Asian Shipowners Association. The amendment also revises the name of one party to the Agreement, COSCO SHIPPING Lines Company Limited, and removes two other parties from the Agreement, China Shipping (Group) Company/China Shipping Container Lines Co., Ltd. and Hanjin Shipping Co., Ltd. The Amendment also restates the Agreement.

Agreement No.: 012201-003.

Title: WWL/“K” Line Space Charter Agreement.

Parties: Wallenius Wilhelmsen Logistics AS and Kawasaki Kisen Kaisha, Ltd.

Filing Party: John P. Meade; K-Line America, Inc.; 6009 Bethlehem Road; Preston, MD 21655.

Synopsis: The amendment clarifies the Parties' agreement to charter space to each other and corrects clerical errors.

Agreement No.: 012225-002.

Title: King Ocean/Seaboard Space Charter Agreement.

Parties: Seaboard Marine, Ltd. and King Ocean Services Limited, Inc.

Filing Party: Wayne Rohde; Cozen O'Connor; 1200 19th Street NW.; Washington, DC 20036.

Synopsis: The amendment revises the amount of space chartered under the Agreement.

Agreement No.: 012443-001.

Title: Hyundai Glovis/Sallaum Cooperative Working Agreement.

Parties: Hyundai Glovis Co., Ltd. and Sallaum Lines DMCC.

Filing Party: Wayne Rohde; Cozen O'Connor; 1200 19th Street NW.; Washington, DC 20036.

Synopsis: The amendment converts the agreement from a two-way charter to primarily a one-way charter of space and revises the duration of agreement. The amendment also restates the agreement.

Agreement No.: 012465.

Title: Hapag-Lloyd/UASC Vessel Sharing Agreement.

Parties: Hapag-Lloyd and United Arab Shipping Company Limited.

Filing Party: David Smith; Cozen O'Connor; 1200 19th Street NW.; Washington, DC 20036.

Synopsis: In light of the fact that Hapag-Lloyd is in the process of merging its liner shipping business with that of United Arab Shipping Company (the “Transaction”), the Agreement authorizes the Parties, in advance of the Transaction, to coordinate and cooperate with respect to the Parties' transportation services and operations, including through the sharing of space on vessels operated under THE Alliance Agreement (FMC Agreement No. 012439).

Agreement No.: 012466.

Title: HMM/ZIM Pacific Northwest Slot Exchange Agreement.

Parties: Hyundai Merchant Marine Co., Ltd. and Zim Integrated Shipping Services Ltd.

Filing Party: Mark Newcomb; Zim Integrated Shipping Services Ltd.; 5801 Lake Wright Drive; Norfolk, VA 23502.

Synopsis: The Agreement authorizes Hyundai and Zim to charter space to each other in the trade between China, Taiwan, and Korea on the one hand and the U.S. West Coast on the other hand.

By Order of the Federal Maritime Commission.
Dated: February 23, 2017.
Rachel E. Dickon,
Assistant Secretary.

[FR Doc. 2017-03898 Filed 2-27-17; 8:45 am]

BILLING CODE 6731-AA-P